DEPARTMENT OF ENERGY

Federal Energy Regulatory Commission

[Docket No. CP01-366-000]

Columbia Gas Transmission Corporation; Notice of Filing

May 25, 2001.

Take notice that on May 16, 2001, Columbia Gas Transmission Corporation (Columbia), 12801 Fair Lakes Parkway, Fairfax, Virginia 22030-0146, filed in Docket No. CP01-366-000 an abbreviated application pursuant to Section 7 of the Natural Gas Act (NGA) and the Commission's Rules and Regulations for a certificate of public convenience and necessity authorizing Columbia to abandon by sale certain natural gas facilities, designated as the CHEWP System, located in West Virginia and Pennsylvania (facilities) and abandonment authorization for the various services provided through the facilities to be sold. Further, Columbia requests that the Commission determine the facilities be exempt from Commission jurisdiction, except in those limited cases where incidental deliveries will be made by the buyer to certain Local Distribution Companies (LDC's), all as more fully set forth in the application which is on file with the Commission and open to public inspection. The filing may be viewed at http://www.ferc.fed.us/online/rims.htm (call 202-208-2222 for assistance).

Columbia states that the facilities have been offered for sale by public auction. Additionally, Columbia states that the sale of the facilities will be conditioned on the buyer's continued service to the current customers under items acceptable to both the buyer and the customers. As a result of this condition, Columbia contends that there will be no material change to, or interruption in, the services currently being provided through the facilities. Columbia is not proposing any construction or facility removal in connection with the proposed abandonment. Columbia states that it will require the buyer to install custody transfer meters at or near points of interconnection between Columbia's facilities to be retained and those being sold.

Columbia states that upon sale and transfer of the facilities to the buyer, the facilities will, among other things, continue to be used for incidental delivery of gas to LDC customers currently receiving service through the facilities. Under the present operating conditions, locally produced gas is received into the facilities and transported to Columbia's mainline transmission system. The facilities are also used to provide service to the LDCs, as well as mainline tap customers. At current production rates, Columbia states that the gas supply in certain parts of the system is insufficient to meet the demand, especially during periods of high demand, such as winter heating season. In order to maintain service to those customers, Columbia states that it backflows gas from its main transmission system into the facilities to satisfy any gas shortfalls. Columbia notes that it is not requesting that the Commission issue a limited jurisdiction certificate authorizing the buyer's incidental use of the facilities, but that it believes such a certificate may be required by the buyer to continue such deliveries. Therefore, Columbia is providing such information to familiarize the Commission with the operation of the facilities in anticipation that the buyer will file an application for such an order.

Any person desiring to be heard or to make any protest with reference to said application should on or before June 15, 2001, file with the Federal Energy Regulatory Commission, 888 First Street, N.E., Washington, D.C. 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to V.J. Hamilton, Certificate Coordinator, Columbia Gas Transmission Corporation, P.O. Box 1273, Charleston, West Virginia 25325-1273, telephone (304) 357-2297.

Comments, protests, and interventions may be filed electronically via the internet in lieu of paper. See, 18 CFR 385.2001(a)(1)(iii) and the instructions on the Commission's web site at http://www.ferc.fed.us/efi/doorbell.htm.

A person obtaining intervenor status will be placed on the service list maintained by the Secretary of the Commission and will receive copies of all documents filed by the applicant and by everyone of the intervenors. An intervenor can file for rehearing of any Commission order and can petition for court review of any such order. However, an intervenor must submit copies of comments or any filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents by other parties or issued by the Commission and will not have the right to seek rehearing or appeal the Commission's final order at a federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provided for, unless otherwise advised, it will be unnecessary for Columbia to appear or be represented at the hearing.

David P. Boergers,
Secretary.

[FR Doc. 01-13727 Filed 5-31-01; 8:45 am]

BILLING CODE 6717-01-M